DEPARTMENT OF HEALTH AND HUMAN SERVICES

Centers for Medicare & Medicaid Services

42 CFR Part 484

[CMS-1510-CN2]

RIN 0938-AP88

Medicare Program; Home Health Prospective Payment System Rate Update for Calendar Year 2011; Changes in Certification Requirements for Home Health Agencies and Hospices

AGENCY: Centers for Medicare & Medicaid Services (CMS), HHS.

ACTION: Correction of final rule.

SUMMARY: This document corrects a technical error that appeared in the November 17, 2010 Federal Register entitled “Medicare Program; Home Health Prospective Payment System Rate Update for Calendar Year 2011; Changes in Certification Requirements for Home Health Agencies and Hospices” final rule (75 FR 70372).

DATES: Effective Date: This correction is effective January 1, 2011.

FOR FURTHER INFORMATION CONTACT: Sharon Ventura, (410) 786-1985.

SUPPLEMENTARY INFORMATION:

I. Background

In FR Doc. 2010-27778 of November 17, 2010 (75 FR 70372), there was a technical error that this notice serves to identify and correct. The provisions of this notice are effective as if they had been included in the “Medicare Program; Home Health Prospective Payment System Rate Update for Calendar Year 2011; Changes in Certification Requirements for Home Health Agencies and Hospices” final rule. Accordingly, the correction is effective January 1, 2011.

II. Summary of Errors

On page 70417, in Table 13B, the calculation of the NRS payment amounts for services provided in rural areas is incorrect. In Table 13B, we multiplied the NRS payment amounts (from Tables 8B and 9B) by the rural add-on (X 1.03). However, we should have multiplied the NRS conversion factors for rural areas (from Table 13A) by the appropriate relative weights. We are replacing Table 13B in its entirety in order to show the correct calculation of the NRS payment amounts for services provided in rural areas.

III. Correction of Errors

In FR Doc. 2010-27778 of November 17, 2010 (75 FR 70372), make the following corrections:

1. On page 70417, Table 13B is corrected to read as follows:

Table 13B—Relative Weights for the 6-Severity NRS System for Services Provided in Rural Areas
Severity level | Points (scoring) | For HHAs that DO submit quality data (NRS conversion factor = 54.12): Relative weight | For HHAs that DO submit quality data (NRS conversion factor = 54.12): Total NRS payment amount for rural areas | For HHAs that DO NOT submit quality data (NRS conversion factor = 53.05): Relative weight | For HHAs that DO NOT submit quality data (NRS conversion factor = 53.05): Total NRS payment amount for rural areas
1 | 0 | 0.2698 | $14.60 | 0.2698 | $14.31
2 | 1 to 14 | 0.9742 | $52.72 | 0.9742 | $51.68
3 | 15 to 27 | 2.6712 | $144.57 | 2.6712 | $141.71
4 | 28 to 48 | 3.9686 | $214.78 | 3.9686 | $210.53
5 | 49 to 98 | 6.1198 | $331.20 | 6.1198 | $324.66
6 | 99+ | 10.5254 | $569.63 | 10.5254 | $558.37

IV. Waiver of Proposed Rulemaking

We ordinarily publish a notice of proposed rulemaking in the Federal Register to provide a period for public comment before the provisions of a notice such as this take effect in accordance with section 553(b) of the Administrative Procedure Act (APA) (5 U.S.C. 553(b)). However, we can waive both the notice and comment procedure and the 30-day delay in effective date if the Secretary finds, for good cause, that the notice and comment process is impracticable, unnecessary, or contrary to the public interest, and incorporates a statement of the finding and the reasons therefore in the notice.

We find for good cause that it is unnecessary to undertake notice and comment rulemaking because this notice merely provides typographical and technical corrections to the regulations. We are not making substantive changes to our payment methodologies or policies, but rather, are simply implementing correctly the payment methodologies and policies that we previously proposed, received comment on, and subsequently finalized. The public has already had the opportunity to comment on these payment methodologies and policies, and this correction notice is intended solely to ensure that the CY 2011 HH PPS final rule accurately reflects them. Therefore, we believe that undertaking further notice and comment procedures to incorporate these corrections into the CY 2011 HH PPS final rule is unnecessary and contrary to the public interest.

Further, we believe a delayed effective date is unnecessary because this correction notice merely corrects inadvertent typographical and technical errors. The changes noted above do not make any substantive changes to the HH PPS payment methodologies or policies. Moreover, we regard imposing a delay in the effective date as being contrary to the public interest. We believe that it is in the public interest for providers to receive appropriate HH PPS payments in as timely a manner as possible and to ensure that the CY 2011 HH PPS final rule accurately reflects our payment methodologies, payment rates, and policies. Therefore, we find good cause to waive notice and comment procedures, as well as the 30-day delay in effective date.

(Catalog of Federal Domestic Assistance Program No. 93.773, Medicare—Hospital Insurance; and Program No. 93.774, Medicare—Supplementary Medical Insurance Program)

Dated: December 20, 2010.
Dawn L. Smalls,
Executive Secretary to the Department.

[FR Doc. 2010-32496 Filed 12-23-10; 8:45 am]

BILLING CODE 4120-01-P